DEPARTMENT OF ENERGY

Federal Energy Regulatory Commission

Combined Notice of Filings #1

Take notice that the Commission received the following electric corporate filings:

Docket Numbers: EC19-101-000.

Applicants: Dominion Energy South Carolina, Inc.

Description: Application for Authorization Under Section 203 of the Federal Power Act of Dominion Energy South Carolina, Inc.

Filed Date: 6/13/19.

Accession Number: 20190613-5177.

Comments Due: 5 p.m. ET 7/5/19.

Take notice that the Commission received the following exempt wholesale generator filings:

Docket Numbers: EG19-127-000.

Applicants: West Columbia Storage LLC.

Description: Notice of Self-Certification of Exempt Wholesale Generator Status of West Columbia Storage LLC.

Filed Date: 6/13/19.

Accession Number: 20190613-5176.

Comments Due: 5 p.m. ET 7/5/19.

Take notice that the Commission received the following electric rate filings:

Docket Numbers: ER10-2721-008.

Applicants: El Paso Electric Company.

Description: Supplement to December 28, 2018 Updated Market Power Analysis of El Paso Electric Company.

Filed Date: 6/14/19.

Accession Number: 20190614-5033.

Comments Due: 5 p.m. ET 7/5/19.

Docket Numbers: ER17-2575-003.

Applicants: Allegheny Energy Supply Company, LLC.

Description: Compliance filing: Allegheny Energy Supply Company Compliance Filing to be effective 1/3/2018.

Filed Date: 6/14/19.

Accession Number: 20190614-5053.

Comments Due: 5 p.m. ET 7/5/19.

Docket Numbers: ER19-81-001.

Applicants: Athens Energy, LLC.

Description: Compliance filing: Offer of Settlement (ER19-81) to be effective N/A.

Filed Date: 6/14/19.

Accession Number: 20190614-5083.

Comments Due: 5 p.m. ET 7/5/19.

Docket Numbers: ER19-1738-002.

Applicants: PSEG Fossil Sewaren Urban Renewal LLC.

Description: Tariff Amendment: Amendment to Application for MBR to be effective 6/30/2019.

Filed Date: 6/14/19.

Accession Number: 20190614-5102.

Comments Due: 5 p.m. ET 7/5/19.

Docket Numbers: ER19-2129-000.

Applicants: Southern California Edison Company.

Description: Tariff Cancellation: Cancel LGIA AltasGas Sonoran Energy LLC SA No. 158 to be effective 6/24/2019.

Filed Date: 6/13/19.

Accession Number: 20190613-5171.

Comments Due: 5 p.m. ET 7/5/19.

Docket Numbers: ER19-2130-000.

Applicants: Dominion Energy South Carolina, Inc.

Description: § 205(d) Rate Filing: DOE_SRS 2015 Task Order Agr to be effective 8/13/2019.

Filed Date: 6/13/19.

Accession Number: 20190613-5172.

Comments Due: 5 p.m. ET 7/5/19.

Docket Numbers: ER19-2131-000.

Applicants: Southwest Power Pool, Inc.

Description: § 205(d) Rate Filing: Attachment AF Revisions to Clarify Mitigated Transition State Offers to be effective 8/14/2019.

Filed Date: 6/14/19.

Accession Number: 20190614-5028.

Comments Due: 5 p.m. ET 7/5/19.

Docket Numbers: ER19-2132-000.

Applicants: The Empire District Electric Company.

Description: § 205(d) Rate Filing: Revised Agreement for Wholesale Distribution Service to be effective 6/15/2019.

Filed Date: 6/14/19.

Accession Number: 20190614-5041.

Comments Due: 5 p.m. ET 7/5/19.

Docket Numbers: ER19-2133-000.

Applicants: Midcontinent Independent System Operator, Inc.

Description: § 205(d) Rate Filing: 2019-06-14_SA 3321 METC-Isabella Renewables I & II E&P (J717 J728) to be effective 6/5/2019.

Filed Date: 6/14/19.

Accession Number: 20190614-5051.

Comments Due: 5 p.m. ET 7/5/19.

Docket Numbers: ER19-2134-000.

Applicants: Wheelabrator Shasta Energy Company Inc.

Description: § 205(d) Rate Filing: Request for Category 1 Seller Status in SW Region & Revised MBR Tariff to be effective 6/15/2019.

Filed Date: 6/14/19.

Accession Number: 20190614-5052.

Comments Due: 5 p.m. ET 7/5/19.

Docket Numbers: ER19-2135-000.

Applicants: Southern California Edison Company.

Description: § 205(d) Rate Filing: amended LGIA, Blythe Mesa Solar Project, SA 172 to be effective 6/15/2019.

Filed Date: 6/14/19.

Accession Number: 20190614-5054.

Comments Due: 5 p.m. ET 7/5/19.

Docket Numbers: ER19-2136-000.

Applicants: New York Independent System Operator, Inc.

Description: § 205(d) Rate Filing: 205 filing of tariff revisions re: Changes to Cash Collateral Requirements to be effective 8/14/2019.

Filed Date: 6/14/19.

Accession Number: 20190614-5056.

Comments Due: 5 p.m. ET 7/5/19.

Docket Numbers: ER19-2137-000.

Applicants: ISO New England Inc., New England Power Pool Participants Committee.

Description: § 205(d) Rate Filing: ISO-NE & NEPOOL; Rev. to Offer Cap Req. in Day-Ahead Energy Mkt. & Eff. Date Chg to be effective 10/1/2019.

Filed Date: 6/14/19.

Accession Number: 20190614-5057.

Comments Due: 5 p.m. ET 7/5/19.

Docket Numbers: ER19-2138-000.

Applicants: Cabrillo Power II LLC.

Description: Tariff Cancellation: Notice of Cancellation to be effective 6/15/2019.

Filed Date: 6/14/19.

Accession Number: 20190614-5097.

Comments Due: 5 p.m. ET 7/5/19.

Docket Numbers: ER19-2139-000.

Applicants: Dominion Energy South Carolina, Inc.

Description: Baseline eTariff Filing: Baseline OATT Filing to be effective 6/15/2019.

Filed Date: 6/14/19.

Accession Number: 20190614-5108.

Comments Due: 5 p.m. ET 7/5/19.

Docket Numbers: ER19-2140-000.

Applicants: Shawville Power, LLC.

Description: § 205(d) Rate Filing: Notice of Succession Filing to be effective 5/17/2019.

Filed Date: 6/14/19.

Accession Number: 20190614-5109.

Comments Due: 5 p.m. ET 7/5/19.

Docket Numbers: ER19-2141-000.

Applicants: New Castle Power, LLC.

Description: § 205(d) Rate Filing: Notice of Succession Filing to be effective 5/17/2019.

Filed Date: 6/14/19.

Accession Number: 20190614-5110.

Comments Due: 5 p.m. ET 7/5/19.

Docket Numbers: ER19-2142-000.

Applicants: Brunot Island Power, LLC.

Description: § 205(d) Rate Filing: Notice of Succession to be effective 5/17/2019.

Filed Date: 6/14/19.

Accession Number: 20190614-5112.

Comments Due: 5 p.m. ET 7/5/19.

Docket Numbers: ER19-2143-000.

Applicants: Gilbert Power, LLC.

Description: § 205(d) Rate Filing: Notice of Succession Filing to be effective 5/17/2019.

Filed Date: 6/14/19.

Accession Number: 20190614-5114.

Comments Due: 5 p.m. ET 7/5/19.

Docket Numbers: ER19-2144-000.

Applicants: Sayreville Power, LLC.

Description: § 205(d) Rate Filing: Notice of Succession Filing to be effective 5/17/2019.

Filed Date: 6/14/19.

Accession Number: 20190614-5117.

Comments Due: 5 p.m. ET 7/5/19.

Docket Numbers: ER19-2145-000.

Applicants: Portland Power, LLC.

Description: § 205(d) Rate Filing: Notice of Succession Filing to be effective 5/17/2019.

Filed Date: 6/14/19.

Accession Number: 20190614-5126.

Comments Due: 5 p.m. ET 7/5/19.

Docket Numbers: ER19-2146-000.

Applicants: Warren Generation, LLC.

Description: § 205(d) Rate Filing: Notice of Succession to be effective 5/17/2019.

Filed Date: 6/14/19.

Accession Number: 20190614-5130.

Comments Due: 5 p.m. ET 7/5/19.

Docket Numbers: ER19-2147-000.

Applicants: Mountain Power, LLC.

Description: § 205(d) Rate Filing: Notice of Succession Filing to be effective 5/17/2019.

Filed Date: 6/14/19.

Accession Number: 20190614-5136.

Comments Due: 5 p.m. ET 7/5/19.

Docket Numbers: ER19-2148-000.

Applicants: Heritage Power Marketing, LLC.

Description: § 205(d) Rate Filing: Notice of Succession to be effective 5/17/2019.

Filed Date: 6/14/19.

Accession Number: 20190614-5137.

Comments Due: 5 p.m. ET 7/5/19.

Docket Numbers: ER19-2149-000.

Applicants: Midcontinent Independent System Operator, Inc.

Description: § 205(d) Rate Filing: 2019-06-14_Attachment X revisions relating to Shared Interconnection Facilities to be effective 8/14/2019.

Filed Date: 6/14/19.

Accession Number: 20190614-5146.

Comments Due: 5 p.m. ET 7/5/19.

Docket Numbers: ER19-2150-000.

Applicants: Shawville Power, LLC.

Description: Baseline eTariff Filing: New Baseline Reactive Tariff Filing to be effective 9/1/2019.

Filed Date: 6/14/19.

Accession Number: 20190614-5154.

Comments Due: 5 p.m. ET 7/5/19.

Docket Numbers: ER19-2151-000.

Applicants: New Castle Power, LLC.

Description: Baseline eTariff Filing: New Baseline Reactive Tariff Filing to be effective 9/1/2019.

Filed Date: 6/14/19.

Accession Number: 20190614-5157.

Comments Due: 5 p.m. ET 7/5/19.

Docket Numbers: ER19-2152-000.

Applicants: Brunot Island Power, LLC.

Description: Baseline eTariff Filing: New Baseline Reactive Tariff Filing to be effective 9/1/2019.

Filed Date: 6/14/19.

Accession Number: 20190614-5159.

Comments Due: 5 p.m. ET 7/5/19.

Docket Numbers: ER19-2153-000.

Applicants: Gilbert Power, LLC.

Description: Baseline eTariff Filing: New Baseline Reactive Tariff Filing to be effective 9/1/2019.

Filed Date: 6/14/19.

Accession Number: 20190614-5160.

Comments Due: 5 p.m. ET 7/5/19.

Take notice that the Commission received the following electric securities filings:

Docket Numbers: ES19-31-000.

Applicants: Duquesne Light Company.

Description: Duquesne Light Co. submits the application re section 204 of the Federal Power Act for an Order Authorizing the Issuance of short-term indebtedness.

Filed Date: 6/11/19.

Accession Number: 20190614-0020.

Comments Due: 5 p.m. ET 7/2/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2019.
Nathaniel J. Davis, Sr.,
Deputy Secretary.

[FR Doc. 2019-13130 Filed 6-20-19; 8:45 am]

BILLING CODE 6717-01-P